DEPARTMENT OF ENERGY

Federal Energy Regulatory Commission

Combined Notice of Filings #1

Take notice that the Commission received the following electric rate filings:

Docket Numbers: ER12-1923-001; ER10-2334-002; ER12-1924-001; ER11-3406-002; ER11-3407-002; ER10-2897-004; ER12-1865-003; ER12-1925-001.

Applicants: Big Savage, LLC, Big Sky Wind, LLC, EverPower Commercial Services LLC, Highland North LLC, Howard Wind LLC, Krayn Wind LLC, Mustang Hills, LLC, Patton Wind Farm, LLC.

Description: Triennial Market Power Update for the EverPower Companies.

Filed Date: 6/5/14.

Accession Number: 20140605-5157.

Comments Due: 5 p.m. ET 8/4/14.

Docket Numbers: ER12-1923-002; ER10-2334-003; ER12-1924-002; ER11-3406-003; ER11-3407-003; ER10-2897-005; ER12-1865-004; ER12-1925-002.

Applicants: Big Savage, LLC, Big Sky Wind, LLC, EverPower Commercial Services LLC, Highland North LLC, Howard Wind LLC, Krayn Wind LLC, Mustang Hills, LLC, Patton Wind Farm, LLC.

Description: Notification of Change in Status by the EverPower Companies.

Filed Date: 6/5/14.

Accession Number: 20140605-5162.

Comments Due: 5 p.m. ET 6/26/14.

Docket Numbers: ER14-2105-001.

Applicants: CPV Shore, LLC.

Description: Resubmission of June 2, 2014 Section 205 Filing to be effective 8/2/2014.

Filed Date: 6/6/14.

Accession Number: 20140606-5023.

Comments Due: 5 p.m. ET 6/27/14.

Docket Numbers: ER14-2106-001.

Applicants: CPV Maryland, LLC.

Description: Resubmission of June 2, 2014 Section 205 Filing to be effective 8/2/2014.

Filed Date: 6/6/14.

Accession Number: 20140606-5020.

Comments Due: 5 p.m. ET 6/27/14.

Docket Numbers: ER14-2136-000.

Applicants: Southwestern Electric Power Company.

Description: SWEPCO-Prescott PSA Amendment—Depreciation Rate Change to be effective 7/1/2014.

Filed Date: 6/5/14.

Accession Number: 20140605-5136.

Comments Due: 5 p.m. ET 6/26/14.

Docket Numbers: ER14-2137-000.

Applicants: Southwestern Electric Power Company.

Description: SWEPCO-Minden PSA Amendment—Depreciation Rate Change to be effective 7/1/2014.

Filed Date: 6/5/14.

Accession Number: 20140605-5137.

Comments Due: 5 p.m. ET 6/26/14.

Docket Numbers: ER14-2138-000.

Applicants: Limon Wind III, LLC.

Description: Limon Wind III, LLC Application for Market-Based Rate Authority to be effective 7/15/2014.

Filed Date: 6/5/14.

Accession Number: 20140605-5149.

Comments Due: 5 p.m. ET 6/26/14.

Docket Numbers: ER14-2139-000.

Applicants: San Diego Gas & Electric Company.

Description: ER14-2077 SDGE Annual Filing of Revised Costs and Accruals for PBOPs to be effective 1/1/2015.

Filed Date: 6/6/14.

Accession Number: 20140606-5001.

Comments Due: 5 p.m. ET 6/27/14.

Docket Numbers: ER14-2140-000.

Applicants: Mulberry Farm, LLC.

Description: Baseline Filing—MBR Application and Tariff Filing to be effective 6/6/2014.

Filed Date: 6/6/14.

Accession Number: 20140606-5002.

Comments Due: 5 p.m. ET 6/27/14.

Docket Numbers: ER14-2141-000.

Applicants: Selmer Farm, LLC.

Description: Baseline Filing—Initial MBR Application and MBR Tariff to be effective 6/6/2014.

Filed Date: 6/6/14.

Accession Number: 20140606-5004.

Comments Due: 5 p.m. ET 6/27/14.

Take notice that the Commission received the following electric securities filings:

Docket Numbers: ES14-43-000.

Applicants: Indianapolis Power & Light Company.

Description: Application of Indianapolis Power & Light Company under FPA Section 204 for an Order Authorizing the Issuance of Short-Term Debt Instruments.

Filed Date: 6/5/14.

Accession Number: 20140605-5161.

Comments Due: 5 p.m. ET 6/26/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 6, 2014.
Kimberly D. Bose,
Secretary.

[FR Doc. 2014-13867 Filed 6-12-14; 8:45 am]

BILLING CODE 6717-01-P